FEDERAL MARITIME COMMISSION

Ocean Transportation Intermediary License Applicants

The Commission gives notice that the following applicants have filed an application for an Ocean Transportation Intermediary (OTI) license as a Non-Vessel-Operating Common Carrier (NVO) and/or Ocean Freight Forwarder (OFF) pursuant to section 40901 of the Shipping Act of 1984 (46 U.S.C. 40101). Notice is also given of the filing of applications to amend an existing OTI license or the Qualifying Individual (QI) for a licensee.

Interested persons may contact the Office of Ocean Transportation Intermediaries, Federal Maritime Commission, Washington, DC 20573, by telephone at (202) 523-5843 or by email at OTI@fmc.gov.

Anselm K. Nwankwo dba Anze Global Logistics (NVO & OFF), 45 Harrison Street #A, Roslindale, MA 02131. Officer: Anselm K. Nwankwo, Sole Proprietor (Qualifying Individual), Application Type: New NVO & OFF License.

Armada AVS Corp (NVO), 709 E. Walnut Street Carson, CA 90746. Officers: Marina Agueeva, Secretary (Qualifying Individual), Vadim Kornilov, President. Application Type: New NVO License.

Horizon Lines of Guam, LLC (NVO), 4064 Colony Road Suite 200, Charlotte, NC 28211. Officers: Brian W. Taylor, Chairman (Qualifying Individual), Michael F. Zendan, II, Secretary. Application Type: Add Trade Name Horizon Lines Express.

Interlink Forwarding Corporation (NVO & OFF), 2030 E. 4th Street Suite 229B, Santa Ana, CA 92705. Officers: Emiliano D. De Gregoris, Director (Qualifying Individual), Lisa N. Nguyen, Director, Application Type: New NVO & OFF License.

Ocean Wide Logistics Inc. (NVO & OFF), 288 West 238th Street 5h, Bronx, NY 10463. Officer: Angel N. Espinoza, President/Secretary (Qualifying Individual). Application Type: New NVO & OFF License.

Panalpina FMS, Inc. (OFF), 22750 Glenn Drive, Sterling, VA 20164. Officers: Stella A. Thomas, Assistant Vice President (Qualifying Individual), Lucas E. Kuehner, Managing Director. Application Type: QI Change.

Nippon Express U.S.A., Inc. (OFF), 590 Madison Avenue #2401, New York, NY 10022. Officers: Atsushi Tempaku, Vice President (Qualifying Individual), Kenji Fujii, President. Application Type: QI Change.

Nippon Express U.S.A. (Illinois), Inc. dba Arrow International GNS dba Arrow Pacific dba Arrow Atlantic (NVO), 401 E. Touhy Avenue Des Plaines, IL 60018. Officers: Atsushi Tempaku, Assistant Secretary (Qualifying Individual), Kenji Fujii, President. Application Type: QI Change.

Transera International Logistics (OFF), 10343 Sam Houston Park Drive #110, Houston, TX 77064. Officers: Carl P. Sorensen, Jr., Vice President (Qualifying Individual), Rosemary Marr, CEO. Application Type: Name Change to C. H. Robinson Project Logistics, Inc.

Vilkon N.A., Inc. (NVO & OFF), 19550 International Blvd. #301, Seatac, WA 98188. Officers: Genadij Solovjov, Vice President (Qualifying Individual), Konstantin Kobrianov, President. Application Type: Add NVO Service.

USTC Global, Inc. (NVO), 20695 S. Western Avenue #132, Torrance, CA 90501. Officers: Do Young (a.k.a. Bob) Ban, CEO (Qualifying Individual), Youngeui Kim, CFO. Application Type: QI Change.

By the Commission.
Dated: August 17, 2012.
Karen V. Gregory,
Secretary.

[FR Doc. 2012-20662 Filed 8-21-12; 8:45 am]

BILLING CODE 6730-01-P